DEPARTMENT OF COMMERCE

International Trade Administration

[C-570-019]

Boltless Steel Shelving Units Prepackaged for Sale From the People's Republic of China: Final Results of the Expedited First Sunset Review of the Countervailing Duty Order

AGENCY: Enforcement and Compliance, International Trade Administration, Department of Commerce.

SUMMARY: The Department of Commerce (Commerce) finds that revocation of the countervailing duty (CVD) order on boltless steel shelving units prepackaged for sale (boltless steel shelving) from the People's Republic of China (China) would be likely to lead to continuation or recurrence of countervailable subsidies at the levels indicated in the “Final Results of Sunset Review” section of this notice.

DATES: Applicable January 4, 2021.

FOR FURTHER INFORMATION CONTACT: Nathan James, AD/CVD, Operations, Office V, Enforcement and Compliance, International Trade Administration, U.S. Department of Commerce, 1401 Constitution Avenue NW, Washington, DC 20230; telephone: (202) 482-5305.

SUPPLEMENTARY INFORMATION:

Background

On October 21, 2015, Commerce published in the Federal Register the CVD order on boltless steel shelves from China.¹ On September 1, 2020, Commerce published the notice of initiation of the first sunset review of the Order, pursuant to section 751(c) of the Tariff Act of 1930, as amended (the Act).² On September 14, 2020, Commerce received a notice of intent to participate from Edsal Manufacturing Company, Inc. (the domestic interested party), within the deadline specified in 19 CFR 351.218(d)(1)(i).³ The domestic interested party claimed interested party status under section 771(9)(C) of the Act, as a producer of the domestic like product in the United States.

¹ See Boltless Steel Shelving Units Prepackaged for Sale from the People's Republic of China: Amended Final Affirmative Countervailing Duty Determination and Countervailing Duty Order, 80 FR 63745 (October 21, 2015) (Order).

² See Initiation of Five-Year (Sunset) Reviews, 85 FR 54348 (September 1, 2020).

³ See Domestic Interested Party's Letter, “Five-Year (`Sunset`) Review of Countervailing Duty Order on Boltless Shelving Units Prepackaged for Sale from the People's Republic of China—Petitioner's Notice of Intent to Participate,” dated September 14, 2020.

On September 30, 2020, Commerce received a timely and adequate substantive response from the domestic interested party.⁴ We received no substantive responses from any other interested parties, including the Government of China, nor was a hearing requested. On October 27, 2020, Commerce notified the U.S. International Trade Commission that it did not receive an adequate substantive response from respondent interested parties.⁵ As a result, pursuant to 751(c)(3)(B) of the Act and 19 CFR 351.218(e)(1)(ii)(C)(2), Commerce conducted an expedited (120-day) sunset review of the Order.

⁴ See Domestic Interested Party's Letter, “Five-Year (Sunset) Review of the Countervailing Duty Order on Boltless Steel Shelving Units Prepackaged for Sale from the People's Republic of China—Petitioner's Substantive Response to Notice of Initiation,” dated September 30, 2020.

⁵ See Commerce's Letter, “Sunset Reviews Initiated on September 1, 2020,” dated October 27, 2020.

Scope of the Order

The product covered by the Order is boltless steel shelving. For a full description of the scope, see the Issues and Decision Memorandum.⁶

⁶ See Memorandum, “Issues and Decision Memorandum for the Final Results of the Expedited First Five-Year Sunset Review of the Countervailing Duty Order on Boltless Steel Shelving Units Prepackaged for Sale from the People's Republic of China,” dated concurrently with this notice (Issues and Decision Memorandum).

Analysis of Comments Received

All issues raised in this sunset review are addressed in the accompanying Issues and Decision Memorandum, which is hereby adopted by this notice. The issues discussed in the Issues and Decision Memorandum are the likelihood of continuation or recurrence of a countervailable subsidy, the net countervailable subsidy rate likely to prevail if the Order were revoked, and the nature of the subsidy programs. A complete list of the issues discussed in the Issues and Decision Memorandum can be found in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/. The signed and electronic versions of the Issues and Decision Memorandum are identical in content.

Final Results of Sunset Review

Pursuant to sections 751(c)(1) and 752(b) of the Act, Commerce determines that revocation of the Order would likely lead to the continuation or recurrence of countervailable subsidies at the rates listed below:

Producer/exporter | Subsidy rate (percent)
Ningbo ETDZ Huixing Trade Co., Ltd | 12.40
Nanjing Topsun Racking Manufacturing Co., Ltd | 15.05
Dalian Huameilong Metal Products Co., Ltd | 80.39
Dongguan Yuan Er Sheng Machinery Source Hardware Co., Ltd | 80.39
Dong Rong Metal Products Co., Ltd | 80.39
Global Storage Equipment Manufacturer Limited | 80.39
Intradin (Shanghai) Import & Export Co., Ltd | 80.39
Jinhua Development District Hongfa Tool, Ltd | 80.39
Kunshan Jisheng Metal & Plastic Co., Ltd | 80.39
Nanjing Huade Warehousing Equipment Manufacturing Co. Ltd | 80.39
Nanjing Whitney Metal Products Co., Ltd | 80.39
Nanjing Yodoly Logistics Equipments Manufacturing Co., Ltd | 80.39
Ningbo Decko Metal Products Trade Co., Ltd | 80.39
Ningbo Haifa Metal Works Co., Ltd | 80.39
Ningbo HaiFa Office Equipment Co., Ltd | 80.39
Ningbo TLT Metal Products Co., Ltd | 80.39
All Others | 13.73

Administrative Protective Order

This notice also serves as the only reminder to parties subject to an Administrative Protective Order (APO) of their responsibility concerning the destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results in accordance with sections 751(c), 752(b), and 777(i)(1) of the Act and 19 CFR 351.218.

Dated: December 28, 2020.
Jeffrey I. Kessler,
Assistant Secretary, for Enforcement and Compliance.

Appendix

List of Topics Discussed in the Issues and Decision Memorandum

I. Summary

II. Background

III. Scope of the Order

IV. History of the Order

V. Legal Framework

VI. Discussion of the Issues

VII. Final Results of Sunset Review

VIII. Recommendation

[FR Doc. 2020-29106 Filed 12-31-20; 8:45 am]

BILLING CODE 3510-DS-P